DEPARTMENT OF ENERGY

Federal Energy Regulatory Commission

[Docket No. AD11-1-000]

Reliability Monitoring, Enforcement and Compliance Issues; Notice Allowing Post-Technical Conference Comments

November 23, 2010.

On November 18, 2010, the Federal Energy Regulatory Commission (Commission) conducted a Commission-led technical conference to explore issues associated with reliability monitoring, enforcement and compliance. All interested persons are invited to file written comments that relate to the issues discussed during the technical conference.¹ Comments should be filed with the Commission in this docket, AD11-1-000, on or before December 9, 2010.

¹ Reliability Monitoring, Enforcement and Compliance Issues; Announcement of Panelists for Technical Conference, 75 FR 70,752 (November 18, 2010).

Kimberly D. Bose,
Secretary.

[FR Doc. 2010-30160 Filed 11-30-10; 8:45 am]

BILLING CODE 6717-01-P